DEPARTMENT OF TRANSPORTATION

Federal Aviation Administration

Notice of Availability of Categorical Exclusion and Record of Decision for the Proposed West Flow Area Navigation Standard Instrument Departure Procedures at Phoenix Sky Harbor International Airport as per the Memorandum Regarding Implementation of Court Order per City of Phoenix, Arizona v. Huerta, 869 F.3d 963 (D.C. Circuit 2017)

AGENCY: Federal Aviation Administration, (FAA), Department of Transportation.

ACTION: Notice of availability.

SUMMARY: The FAA, Western Service Area is issuing this notice to advise the public of the availability of the Categorical Exclusion/Record of Decision (CATEX/ROD) for the Proposed West Flow Area Navigation (RNAV) Standard Instrument Departure (SID) Procedures at Phoenix Sky Harbor International Airport in Phoenix, AZ. The FAA reviewed the action and determined it to be categorically excluded from further environmental documentation.

FOR FURTHER INFORMATION CONTACT: Marina Landis, Federal Aviation Administration, Operations Support Group, Western Service Center, 2200 S 216th St., Des Moines, WA 98198-6547 (206) 231-2238 or https://www.faa.gov/nextgen/nextgen_near_you/community_involvement/phx/.

SUPPLEMENTARY INFORMATION:

Background

The FAA is proposing to amend the west flow RNAV SID procedures from Runways 25 Left, 25 Right and 26 at Phoenix Sky Harbor International Airport, Phoenix, Arizona. The proposed amendments are consistent with the resolution of the parties as stipulated in the Memorandum Regarding Implementation of the Court Order, jointly negotiated following the court's August 29, 2017, Order in City of Phoenix, Arizona v. Huerta, 869 F.3d 963 (D.C. Circuit 2017). The proposed Step 1A RNAV SID procedures is the first step in order to return the west flow procedures to the pre-September 2014 flight paths. Aircraft on the proposed northwest RNAV SID will follow the extended runway centerline, perform a right turn to the north after 43rd Avenue direct to an RNAV waypoint, and will then be vectored to join a departure route that closely follows the current published procedures to the northeast, north, and northwest. Aircraft on the proposed west RNAV SID will climb through 500 feet above ground level, or 1,635 feet mean sea level, then turn left and right following paths similar to those prior to September 18, 2014. From there, they will follow an RNAV path that closely follows the current published procedure to the west. Aircraft departing to the southwest will continue to fly the current RNAV procedures.

Right of Appeal: This CATEX/ROD constitutes a final order of the FAA Administrator and is subject to exclusive judicial review under 49 U.S.C. 46110 by the U.S. Circuit Court of Appeals for the District of Columbia or the U.S. Circuit Court of Appeals for the circuit in which the person contesting the decision resides or has its principal place of business. Any party having substantial interest in this order may apply for review of the decision by filing a petition for review in the appropriate U.S. Court of Appeals no later than 60 days after the order is issued in accordance with the provisions of 49 U.S.C. 46110.

Issued in Des Moines, WA, on March 29, 2018.
Shawn M. Kozica,
Manager, Operations Support Group, Western Service Center, Air Traffic Organization.

[FR Doc. 2018-06245 Filed 3-27-18; 8:45 am]

BILLING CODE 4910-13-P